DEPARTMENT OF EDUCATION

Indian Education Formula Grants to Local Educational Agencies

AGENCY: Department of Education.

ACTION: Notice reopening the deadline date for the Indian Education Formula Grants to Local Educational Agencies Program.

Catalog of Federal Domestic Assistance (CFDA) Number: 84.060A.

SUMMARY: On January 11, 2005 we published a notice in the Federal Register (70 FR 1881) that established a deadline of February 28, 2005, for transmittal of applications for the fiscal year (“FY”) 2005 Indian Education Formula Grants to Local Educational Agencies. The purpose of this notice is to reopen the notice inviting applications, with a new deadline date for transmittal of applications for this program. A total of 96 current recipients that enroll approximately 16,600 Indian students did not submit their applications by the deadline. This year's deadline was several months earlier than usual, and some of those current grantees, who were focusing on assembling information required under their fiscal year 2004 grants, may not have understood that, during the months of January and February, they needed both to complete the submission of that information for their 2004 grants and to submit their fiscal year 2005 applications. The new deadline date for the transmittal of applications or amendments to applications already submitted is March 28, 2005.

DATES: The new deadline date for the transmittal of applications or amendments to applications already submitted, is March 28, 2005.

FOR FURTHER INFORMATION CONTACT: Victoria Vasques, Office of Indian Education, 400 Maryland Avenue, SW., room 3W115, Washington, DC 20202-6335. Telephone: (202) 260-3774 or by e-mail: oiegrants@ed.gov.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 16, 2005.
Victoria Vasques,
Assistant Deputy Secretary for Indian Education.

[FR Doc. 05-5545 Filed 3-18-05; 8:45 am]

BILLING CODE 4000-01-P